DEPARTMENT OF TRANSPORTATION

National Highway Traffic Safety Administration

[NHTSA Docket No. NHTSA-2011-0077]

Federal Interagency Committee on Emergency Medical Services; Meeting

AGENCY: National Highway Traffic Safety Administration (NHTSA), DOT.

ACTION: Meeting Notice—Federal Interagency Committee on Emergency Medical Services.

SUMMARY: NHTSA announces a meeting of the Federal Interagency Committee on Emergency Medical Services (FICEMS) to be held in the Washington, DC area. This notice announces the date, time and location of the meeting, which will be open to the public. Pre-registration is required to attend.

DATES: The meeting will be held on July 12, 2011, from 1 p.m. EDT to 4 p.m. EDT.

ADDRESSES: The meeting will be held at the Department of Homeland Security (DHS), Office of Health Affairs at 1120 Vermont Avenue, NW., 4th Floor Conference Room, Washington, DC 20005.

FOR FURTHER INFORMATION CONTACT: Drew Dawson, Director, Office of Emergency Medical Services, National Highway Traffic Safety Administration, 1200 New Jersey Avenue, SE., NTI-140, Washington, DC 20590, Telephone number (202) 366-9966; E-mail Drew.Dawson@dot.gov.

Required Registration Information: This meeting will be open to the public, however pre-registration is required to comply with security procedures. Picture I.D. must be provided to enter the DHS Building and it is suggested that visitors arrive 20-30 minutes early in order to facilitate entry. Members of the public wishing to attend must provide their name, affiliation, phone number, and e-mail address to Noah Smith by e-mail at Noah.Smith@dot.gov or by telephone at (202) 366-5030 no later than July 8, 2011, or they will not be allowed into the building. Please be aware that visitors to DHS are subject to search and must pass through a magnetometer. Weapons of any kind are strictly forbidden in the building unless authorized through the performance of the official duties of your employment (i.e. law enforcement officer).

SUPPLEMENTARY INFORMATION: Section 10202 of the Safe, Accountable, Flexible, Efficient Transportation Equity Act: A Legacy For Users (SAFETEA-LU), Public Law 109-59, provided that the FICEMS consist of several officials from Federal agencies as well as a State emergency medical services director appointed by the Secretary of Transportation. SAFETEA-LU directed the Administrator of NHTSA, in cooperation with the Administrator of the Health Resources and Services Administration of the Department of Health and Human Services and the Director of the Preparedness Division, Directorate of Emergency Preparedness and Response of the Department of Homeland Security, to provide administrative support to the Interagency Committee, including scheduling meetings, setting agendas, keeping minutes and records, and producing reports.

This meeting of the FICEMS will focus on addressing the requirements of SAFETEA-LU and the opportunities for collaboration among the key Federal agencies involved in emergency medical services. The agenda will include:

• Discussion of Response to Recommendations from the National Transportation Safety Board

○ Update on Helicopter Emergency Medical Services recommendations

○ Presentation of report and draft response on Mexican Hat, Utah Motorcoach Crash recommendations

• Presentation of the National EMS Assessment

• Reports and updates from Technical Working Group committees

• Reports, updates, recommendations from FICEMS members

• A public comment period

There will not be a call-in number provided for this FICEMS meeting, however minutes of the meeting will be available to the public online at http://www.ems.gov.

Issued on: June 16, 2011.
Jeffrey P. Michael,
Associate Administrator, Research and Program Development.

[FR Doc. 2011-15401 Filed 6-20-11; 8:45 am]

BILLING CODE 4910-59-P